CORPORATION FOR NATIONAL AND COMMUNITY SERVICE

45 CFR Parts 2551, 2552, and 2553

RIN 3045-AA81

AmeriCorps Seniors Regulation Updates

AGENCY: Corporation for National and Community Service.

ACTION: Final rule.

SUMMARY: The Corporation for National and Community Service (operating as AmeriCorps) is revising its regulations governing AmeriCorps Seniors programs. This rule removes barriers to service for individuals and increases flexibility for grantees to accomplish project goals and recruit volunteers. Specifically, this rule removes barriers for individuals to serve as AmeriCorps Seniors volunteers in three ways: first, by modernizing what is considered income in the calculation that determines eligibility to receive a stipend; second, by allowing volunteers to continue to receive a stipend when their sponsor places them on administrative leave due to extenuating circumstances that prevent service; and third, by allowing grantees to supplement stipends. This rule reduces burden for AmeriCorps Seniors grantees in two ways: first, it establishes a single 10 percent match value regardless of grant year. Second, this rule allows grantees to choose to pay more than (but not less than) the AmeriCorps-established stipend rates, using non-AmeriCorps funds for the amount that exceeds the AmeriCorps-established rate. These changes will improve grantees' ability to recruit volunteers and allow grantees to devote to program operations resources that would otherwise be devoted to meet increasingly high match requirements. The rule also updates nomenclature to reflect that the Corporation for National and Community Service operates as AmeriCorps and that “Senior Corps” is now known as “AmeriCorps Seniors.”

DATES: This rule is effective October 1, 2024.

FOR FURTHER INFORMATION CONTACT: Robin Corindo, Deputy Director, AmeriCorps Seniors, at rcorindo@americorps.gov, (202) 489-5578.

SUPPLEMENTARY INFORMATION:

I. Executive Summary of Final Rule

II. Background on the AmeriCorps Seniors Programs Affected by This Rule

III. Comments on the Proposed Rule, AmeriCorps' Responses, and an Overview of the Final Rule

A. Income Calculation—SCP (§§ 2551.12, 2551.43, and 2551.44); FGP (§§ 2552.12, 2552.43, and 2552.44)

B. Administrative Leave—SCP (§§ 2551.23(i) and 2551.46(a)); FGP (§§ 2552.23(i) and 2552.46(a))

C. Allowing Grantees To Pay Higher Stipends—SCP (§ 2551.92(e)); FGP (§ 2552.92(e))

D. Removing the Requirement for a Full-Time Project Director—SCP (§ 2551.25(c)); FGP (§ 2552.25(c)); RSVP (§ 2553.25(c))

E. Establishing a Single, 10 Percent Match, Regardless of Year—RSVP (§ 2553.72)

F. Other Comments on the Proposed Rule

IV. Regulatory Analyses

A. Executive Orders 12866 and 13563

B. Regulatory Flexibility Act

C. Unfunded Mandates Reform Act of 1995

D. Paperwork Reduction Act

E. Federalism (E.O. 13132)

F. Takings (E.O. 12630)

G. Civil Justice Reform (E.O. 12988)

H. Consultation With Indian Tribes (E.O. 13175)

I. Executive Summary of Final Rule

This rule updates AmeriCorps Seniors regulations implementing the Senior Companion Program (SCP), Foster Grandparent Program (FGP), and RSVP. The updates to the SCP and FGP regulations, at Code of Federal Regulations (CFR) parts 2551 and 2552, respectively, parallel each other and include changes to simplify provisions on calculation of an AmeriCorps Seniors volunteer's income to determine whether they are eligible for a stipend and removal of certain items from being considered as income. The updates to the SCP and FGP regulations also specify that volunteers who receive a stipend may be paid the stipend when the sponsor places them on administrative leave due to extenuating circumstances that prevent service. The updates also allow grantees to pay stipends at a higher rate than that established by AmeriCorps Seniors, if they choose to do so, as long as they do not use AmeriCorps grant funds to pay for the amount that is above the established stipend rate.

The updates to the RSVP regulations at part 2553 change the level of non-AmeriCorps support (“match”) that an RSVP sponsor must provide. Currently, the regulations allow AmeriCorps to grant up to 90 percent of the total RSVP budgeted project cost in the first year of a grant, but only 80 percent in the second year and 70 percent in the third and successive years. As a result, grantees currently must provide matching funds that are 10 percent of the total project cost in the first year of a grant, 20 percent in the second year, and 30 percent in successive years. The rule being finalized today instead establishes a single required match rate at 10 percent, regardless of the grant year.

Lastly, this rule makes nomenclature changes to add a definition for “AmeriCorps” and change references to the “Corporation” and “CNCS” to “AmeriCorps” throughout these regulations, to reflect that the Corporation for National and Community Service now operates as AmeriCorps. This rule also changes “National Senior Service Corps (NSSC)” to “AmeriCorps Seniors” to reflect current terminology and branding.

One change was proposed but is not being finalized today, in response to the comments opposing the change, as discussed below: the update that would have removed the requirement for grantees to employ a full-time project director.

II. Background on the AmeriCorps Seniors Programs Affected by This Rule

AmeriCorps Seniors operates four programs: the Senior Companion Program (SCP), Foster Grandparent Program (FGP), RSVP (formerly the Retired and Senior Volunteer Program), and a Senior Demonstration Program. This rule affects regulations implementing the first three programs. These programs are authorized by the Domestic Volunteer Service Act of 1973, as amended, 42 U.S.C. 4950 et seq., and this rulemaking is authorized by the National and Community Service Act of 1990, as amended, 42 U.S.C. 12501 et seq.

AmeriCorps Seniors SCP and FGP each provide grants to qualified agencies and organizations (known as grantees) for the dual purpose of engaging persons 55 and older, particularly those with limited incomes, in volunteer service to meet critical community needs and to provide a high-quality experience that will enrich the lives of older adult volunteers. In SCP, program funds are used to support Senior Companions in providing supportive, individualized services to help older adults and those with special needs maintain their dignity and independence. They also serve caregivers with respite support. In FGP, program funds are used to support Foster Grandparents in providing supportive, person-to-person service to children with special and/or exceptional needs, or in circumstances that limit their academic, social, or emotional development. In SCP and FGP (but not RSVP), volunteers who are “low income” (meaning their income is at or below 200 percent of the poverty line) may receive stipends to allow them to serve without cost to themselves. See 42 U.S.C. 5011(d)-(e), 5013(b).

In SCP, FGP, and RSVP, the sponsor receiving the grant has several responsibilities. Among them is the responsibility to provide staff sufficient to support the project. Another is the responsibility to raise “match,” meaning non-AmeriCorps cash and in-kind contributions in support of the grant. The match amount is stated as a percentage of the total project cost. For both SCP and FGP grantees, the required match is 10 percent, meaning the AmeriCorps grant funds 90 percent of the total budgeted project cost. See 42 U.S.C. 5011(a), 5013(a). For RSVP, the statute limits match to no more than 10 percent in the first year, 20 percent in the second year, and 30 percent in subsequent years. See 42 U.S.C. 5001(b). In other words, the statute provides upper limits (tiered by year) on what RSVP grantees may be required to provide as match. The current RSVP regulations, however, instead frame match as a limit on AmeriCorps' contributions to 90 percent in the first year, 80 percent in the second year, and 70 percent thereafter—in effect placing a requirement, rather than an upper limit, for grantee match at 10 percent in year one, 20 percent in year two, and 30 percent thereafter. See 45 CFR 2553.72.

Additionally, in SCP and FGP, AmeriCorps Seniors volunteers are offered a stipend for their service. The statute sets a minimum hourly rate for the stipend. See 42 U.S.C. 5011(d), 5013(b). AmeriCorps Seniors establishes the stipend rate annually through the Notice of Funding Opportunity; currently, the stipend rate is $4.00 per service hour. The current SCP and FGP regulations provide that a grantee must pay no more than and no less than the stipend rate that AmeriCorps establishes and offers no flexibility to grantees who may wish to use available additional funding to supplement the stipend.

III. Comments on the Proposed Rule, AmeriCorps' Responses, and an Overview of the Final Rule

AmeriCorps published a proposed rule on February 14, 2024 (89 FR 11233) and received 63 public comments in response by the April 15, 2024, comment deadline. Several of the comments expressed general support for the rule changes. Comments that specifically addressed one or more of the five proposed substantive changes are summarized below, along with AmeriCorps' responses to those comments and brief descriptions of the current regulations, proposals, and finalized provisions. A discussion of other comments received on the proposed rule is also included.

A. Income Calculation—SCP (§§ 2551.12, 2551.43, and 2551.44); FGP (§§ 2552.12, 2552.43, and 2552.44)

Current Regulation: The current regulations address an SCP and FGP volunteer's income in three sections: the definition of “annual income” (at §§ 2551.12 and 2552.12, respectively); the income guidelines governing eligibility to serve as a stipended volunteer (at §§ 2551.43 and 2552.43, respectively); and the categories of “income” for determining eligibility (at §§ 2551.44 and 2552.44, respectively). Currently, the definition of “annual income” and the sections addressing eligibility guidelines and the determination of “income” each contain components for the calculation of income.

Changes That Were Proposed: The proposed rule would streamline these sections so that the definition sets out only that the time period for calculation of annual income is 12 months, and all the components for the calculation of income are contained in one section each for SCP and FGP. Substantively, these changes would remove several items from being included in the calculation of a volunteer's income, including:

• The value of shelter, food, and clothing if provided at no cost by relatives of the volunteer or volunteer's spouse;

• Strike benefits;

• Training stipends; and

• Regular support that is not legally required from an absent family member or someone not living in the household.

Comments on the Proposed Changes: Most who commented on the proposed changes to the income calculation provisions expressed support for them. Among the reasons that commenters gave for their support were that the changes would remove barriers for individuals to serve as AmeriCorps volunteers, help volunteer recruitment and retention (which leads to more children and seniors being served by the FGP and SCP, respectively), and contribute to greater food security among low-income volunteers.

Several commenters requested that only the volunteer's income be considered, without the spouse's income or income of the entire household. These commenters stated that spousal income being included in a potential volunteer's income calculation is one of main reasons that grantees must turn away potential FGP and SCP volunteers.

One commenter stated that military veterans should be exempt from declaring their retirement as income.

Although the proposed rule did not address the income threshold (200 percent of the poverty line), several commenters advocated for an increase in the income threshold or removal of the threshold to engage more FGP and SCP volunteers and serve more individuals as a result. Most who requested an increase suggested increasing the threshold to 400 percent of the poverty level; one suggested a $5,000 to $10,000 increase per year in the threshold. Two commenters suggested using the Asset Limited, Income Constrained, Employed (ALICE) tool instead of the Federal poverty level as the income threshold as a more equitable determination that accounts for the local cost of living.

AmeriCorps' Response to Comments: AmeriCorps agrees with the commenters who stated that the proposed changes to income calculation would remove barriers for individuals to serve as FGP and SCP volunteers. The final rule includes these changes and focuses the income calculation more on long-term legally required income.

AmeriCorps acknowledges the comments stating that only the volunteer's income should be included in the calculation, and not the spouse's or any other family member's income. Consistent with the current and proposed rule, the final rule continues to require the spouse's income to be included in calculation of the volunteer's income if the spouse resides in the same residence. If AmeriCorps considers removing the incomes of cohabitating spouses from the calculation of a volunteer's income, it will propose that removal in a future rulemaking. However, this rulemaking takes steps to limit other relatives' support from being included in calculation of a volunteer's income. The proposed rule and final rule both focus solely on the volunteer's own income and resident spouse's income, rather than that of other relatives, as described below.

With regard to the comment requesting that military veterans' retirement income be excluded from their income calculation, if AmeriCorps considers adding this exclusion, it will propose the exclusion in a future rulemaking.

The comments regarding increasing, removing, or changing the income threshold cannot be addressed by rulemaking because the underlying statute, the Domestic Volunteer Service Act of 1973, as amended, establishes that the low-income threshold be not more than 200 percent of the Federal poverty line. See 42 U.S.C. 5011(e)(1).

Overview of Final Rule Provisions on Income Calculation: As proposed, and as finalized today, the volunteer's income calculation will no longer include the value of shelter, food, and clothing that relatives provide to the volunteer, or financial support that absent relatives opt to provide but are not legally required to provide. Under the proposed and final rules, the only financial support from non-resident relatives (other than the spouse living in the same residence) that is included in the volunteer's income calculation is financial support that the relatives are legally required to provide. The volunteer's spouse's income is included in the calculation only if the spouse lives in the same residence with the volunteer. As a result, when examining a volunteer's income to determine eligibility for a stipend under this proposal, AmeriCorps Seniors would look only at the volunteer's income, plus the spouse's income if the spouse lives in the same residence. The final rule also removes strike benefits and training stipends from the calculation of income, because their removal supports modernization of the regulations.

AmeriCorps expects these changes will simplify the determination of whether someone is eligible to serve as a stipended FGP or SCP volunteer and remove barriers to those individuals to serve in FGP and SCP. These changes will also support AmeriCorps Seniors programs' ability to recruit and retain volunteers, rebuild volunteer numbers to pre-COVID-19 levels, and reduce relinquishment of FGP and SCP program that result from difficulties recruiting eligible volunteers.

B. Administrative Leave—SCP (§§ 2551.23(i) and 2551.46(a)); FGP (§§ 2552.23(i) and 2552.46(a))

Current Regulation: Currently, the regulations governing SCP and FGP are silent as to whether AmeriCorps Seniors volunteers who receive a stipend for their service and earned leave may also receive a stipend for administrative leave.

Changes That Were Proposed: The proposed rule would add that stipended volunteers may be paid administrative leave, as long as grantees have written service policies to address administrative leave. The proposed rule would also require grantees to obtain AmeriCorps' approval to pay the stipend for administrative leave after the seventh calendar day of the extenuating circumstances that are the basis for the administrative leave.

Comments on the Proposed Changes: Most who commented on the administrative leave proposal supported the proposed changes. Among the reasons provided for support were that the proposed changes would enhance program flexibility to attract and retain volunteers and promote consistent volunteer participation. One commenter noted that many volunteers are dependent upon the stipend they receive and that any break in service, planned or unplanned, can create hardship for the volunteer.

A few of the commenters in support of the change suggested modifications. One suggested the regulation establish a “floor” of circumstances that would trigger administrative leave. Similarly, another stated that there should be guidelines as to what constitute “extenuating circumstances” that justify administrative leave. The other recommended increasing the time a stipend may be paid for administrative leave before AmeriCorps' approval is required, from the proposed seven calendar days to a month.

AmeriCorps' Response to Comments: AmeriCorps agrees that allowing stipends to be paid for administrative leave both enhances program flexibility to attract and retain volunteers and helps to protect volunteers who rely on their stipends from unpredictable loss of their stipend due to events beyond their control. AmeriCorps believes the phrase “extenuating circumstances” itself provides a baseline for the types of circumstances that would justify administrative leave—meaning circumstances that are exceptional, unusual, and/or unpredictable. The rule gives grantees the flexibility to establish for themselves what extenuating circumstances would justify administrative leave to complement their own policies' categorizations of circumstances qualifying as sick leave and emergency or disaster leave, as appropriate.

AmeriCorps has determined that seven calendar days is a more appropriate time period than a month for obtaining AmeriCorps' approval of continued payment of a stipend for administrative leave. As a practice, grantees should keep their portfolio managers updated as to any extenuating circumstances that affect their programs and service. Seven days is long enough to allow grantees to take any emergency action they may need to in response to the circumstances, while allowing AmeriCorps to provide some oversight to ensure that volunteers are not unnecessarily being paid for time not in service.

Overview of Final Rule Provisions on Administrative Leave: The final rule adopts the proposed rule's changes to allow SCP and FGP grantees to grant administrative leave to their volunteers in those unusual and rare situations that prevent a volunteer, through no fault of their own, from serving at their volunteer station, as long as the grantee's program policies permit administrative leave in such situations. Many dedicated AmeriCorps Seniors volunteers in SCP and FGP rely upon the stipend to supplement their limited incomes so they can pay for necessities like medicine and groceries. This change ensures that these volunteers are not penalized by having their stipends withheld for being unable to serve due to extenuating circumstances (as defined in the program's policy). While grantees must define the specifics of administrative leave, the rule provides parameters by defining the term as a temporary absence that the sponsor allows in extenuating circumstances that prevent the volunteer from serving, or from serving safely. The final rule provides a check on grantees providing administrative leave to volunteers by requiring AmeriCorps' approval to pay the stipend for administrative leave after the seventh calendar day of the extenuating circumstances that are the basis for the administrative leave.

C. Allowing Grantees To Pay Higher Stipends—SCP (§ 2551.92(e)); FGP (§ 2552.92(e))

Current Regulation: The current SCP and FGP regulations prohibit grantees from paying stipends at rates different from those established by AmeriCorps.

Changes That Were Proposed: The proposed rule would allow grantees to pay stipends to SCP and FGP volunteers at a higher rate than the rate established by AmeriCorps Seniors, if they choose to do so, and as long as they use funds other than AmeriCorps grant funds to pay for the amount above the established stipend rate. The proposed rule also would allow grantees to use funds with which they supplement the stipend to count toward required match contributions.

Comments on the Proposed Changes: A few commenters expressed their support for the proposed change as removing barriers to volunteer recruitment and retention, promoting economic security for older adults, and accounting for certain geographic areas having higher costs of living. Several commenters opposed the proposed change based on one or more of the following reasons: grantees able to supplement stipends will attract volunteers away from grantees who are not able to supplement stipends, creating inequities across the country; the different stipend rates will cause confusion among volunteers; and Congress might reduce funding for stipends overall.

AmeriCorps' Response to Comments: AmeriCorps agrees that allowing grantees to supplement stipends will help remove barriers to volunteer recruitment and retention, promote economic security for low-income volunteers, and account for different costs of living. AmeriCorps does not believe that the change will create inequities; rather, the change will help address the inequities that already exist among geographic areas with different costs of living. This rule provides grantees a means of attracting more volunteers if they are in an area with a higher cost of living and gives them an incentive to find more community support so they can supplement stipends. This flexibility aligns with the approach taken by AmeriCorps State and National in allowing grantees the flexibility to provide additional benefits and higher living allowances. AmeriCorps has no basis for expecting that this change will cause confusion among volunteers or result in reduced appropriations for stipends, as there is no evidence that these were issues when prior versions of the regulations allowed supplementation of stipends. See 45 CFR 1207.2-2 and 1208.2-2 (10/01/1996 edition).

Overview of Final Rule Provisions on Supplementation of Stipends: The final rule adopts the proposed rule's changes to allow grantees to pay volunteers a stipend at a rate higher than the AmeriCorps-established rate, should they have the desire and funding to do so, and allows grantees to count the funds with which they supplement the stipend toward their required match contribution. Grantees' supplementation of volunteers' stipends must comply with anti-discrimination and other laws.

The current regulation, which restricts all volunteers to the AmeriCorps-established stipend rate, prevents grantees from adjusting their benefits to account for the needs of volunteers in their local communities. This restriction is not compelled by statute, as the DVSA establishes only a minimum stipend rate ($3.00 per hour). Earlier versions of the regulation explicitly allowed for stipend payments in excess of the amount established by AmeriCorps (then “ACTION”). See 45 CFR 1207.2-2 and 1208.2-2 (10/01/1996 edition). The final rule reinstitutes this allowance, and also allows the supplemented stipend amount to count toward the required match contribution. Under the final rule, AmeriCorps will continue to establish stipend rates and comply with the statutory minimum for stipend rates, but grantees will have the flexibility to supplement the rate with their non-AmeriCorps funds.

AmeriCorps expects that the flexibility for supplementing stipends will help grantees to recruit and retain volunteers by improving the feasibility of service for low-income volunteers whose costs of serving exceed the AmeriCorps-established stipend rate. This flexibility will also allow for grantees to account for things like higher costs of living in providing their volunteers with stipends, by using their grantee (non-AmeriCorps) share funds to add on to the single stipend rate that AmeriCorps establishes for the entire country.

D. Removing the Requirement for a Full-Time Project Director—SCP (§ 2551.25(c)); FGP (§ 2552.25(c)); RSVP (§ 2553.25(c))

Current Regulation: The current SCP, FGP, and RSVP regulations all require a sponsor to employ a full-time project director to accomplish project objectives and manage functions and project activities, except in a limited circumstance where the sponsor may negotiate with AmeriCorps for permission to instead employ a part-time project director. That circumstance is when the sponsor has demonstrated to AmeriCorps that having only a part-time project director will not adversely affect the size, scope, or quality of project operations.

Changes That Were Proposed: The proposed rule would have replaced these prescriptive requirements with a more results-focused requirement that grantees employ project staff sufficient to support the size, scope, and quality of project operations. In the application, the sponsor would have had to thoroughly outline their management plan to describe how each project director duty will be fulfilled. At the time of renewal, program structure would then be evaluated based on performance measures. The intention of the proposed change was to provide grantees with the flexibility to determine their own appropriate mix of staffing to support the project.

Comments on the Proposed Changes: Of those who commented on this proposed change, approximately half expressed support and half opposition. Those in support of the change stated that it allows programs to use staff more efficiently by allowing programs to reallocate work duties, adjust workflows, and increase continuity of services, without having to request a waiver from AmeriCorps. Those in opposition to the change stated that it would allow grantees to pull the currently full-time project directors onto other efforts, limiting the amount of time the project directors would be able to devote to the programs and undermining their ability to effectively run them, would contribute to understaffing the programs and job loss, and would increase compliance issues, as there would be no single full-time person accountable as program director. Commenters also pointed out that there is already a waiver process in place to enable grantees to employ a part-time director, and one commenter provided evidence that there are insufficient requests for waivers to justify a change to the general rule.

AmeriCorps' Response to Comments: AmeriCorps is persuaded by those comments opposing the change that state that a waiver process is already available and is not used so frequently as to justify a change to the overall requirement for a full-time project director. For this reason, AmeriCorps is not moving forward with finalizing this change at this time, but will monitor the number of waiver requests in the future to determine whether this change should be considered in a separate, future rulemaking.

Overview of Final Rule Provisions on Full-Time Project Director: The final rule retains the current regulatory requirement for a full-time project director, and opportunity for a waiver of this requirement.

E. Establishing a Single, 10 Percent Match, Regardless of Year—RSVP (§ 2553.72)

Current Regulation: The current regulation provides that AmeriCorps RSVP grants may fund up to 90 percent of the total budgeted project cost in the first year, leaving the sponsor responsible for 10 percent of the total project cost through locally generated contributions. The current regulation then decreases the level of funding AmeriCorps may provide for RSVP grants to 80 percent (consequently increasing the sponsor's responsibility to 20 percent) in the second year, and further decreases AmeriCorps' contribution to 70 percent (consequently increasing the sponsor's responsibility to 30 percent) in the third year and beyond.

Changes That Were Proposed: The proposed rule would revise the current tiered match requirements for RSVP to instead provide RSVP parity with the FGP and SCP programs, which each require 10 percent match regardless of year.

Comments on the Proposed Changes: Every commenter who commented on the proposed match change supported the proposed reduction of required RSVP match to 10 percent. Among the reasons commenters expressed for their support were that the proposed change would establish parity with the FGP and SCP program match requirements; simplify raising and reporting match for RSVP grantees; help RSVP programs remain sustainable in a time of rapid inflation and stagnant or reduced funding from other non-Federal sources; have a compounding positive financial impact on RSVP grantees' ability to provide needed vital services to their communities; streamline management of RSVP program budgets; and allow for more focus on RSVP program requirements, volunteer recruitments, partnerships and potential new programming. A commenter also noted that the current 30 percent match can be a barrier for service in rural areas that are philanthropically underserved and that a 10 percent match, regardless of year, helps to remove this barrier.

AmeriCorps' Response to Comments: AmeriCorps agrees with these unanimous comments in support of the change to a 10 percent required match for RSVP, regardless of year. In addition to the reasons expressed by the commenters for their support, this change will also benefit grantees that have RSVP programs and FGP and/or SCP programs, by allowing them to have consistent policies across all their programs. AmeriCorps also anticipates that this change will reduce relinquishments of RSVP programs.

Overview of Final Rule Provisions on Income Calculation: The final rule removes the increasing required match for RSVP programs, requiring match at 10 percent regardless of year. The statute limits how much match funding RSVP grantees must provide to no more than 10 percent in the first year, 20 percent in the second year, and 30 percent in subsequent years. See 42 U.S.C. 5001(b). In other words, the statute provides upper limits (tiered by year) on what RSVP grantees may be required to provide as match. In contrast, the current RSVP regulations convert these upper limits into requirements for grantees to provide match at 10 percent in the first year, 20 percent in the second year, and 30 percent in subsequent years. See 45 CFR 2553.72. The final rule instead uses the flexibility afforded by the statute to require 10 percent match for RSVP regardless of year. This change in required match is not expected to impact the quality of services provided to communities by the program because all program expectations remain the same under this final rule.

F. Other Comments on the Proposed Rule

Two commenters commented on the proposed rule's nomenclature updates, such as the updates to reflect that “Senior Corps” is now called “AmeriCorps Seniors.” One commenter supported these updates. The other commenter opposed the updates, stating that most communities are only familiar with the separate identities of the FGP, SCP, and RSVP, and that “AmeriCorps” causes confusion because people think of the AmeriCorps State and National program. AmeriCorps is finalizing the nomenclature updates, as its programs have been operating under the unifying moniker “AmeriCorps” for several years.

IV. Regulatory Analyses

A. Executive Orders 12866 and 13563

Executive Orders 12866 and 13563 direct agencies to assess all costs and benefits of available regulatory alternatives, and if regulation is necessary, to select regulatory approaches that maximize net benefits (including potential economic, environmental, public health and safety effects, distributive impacts, and equity). Executive Order 13563 emphasizes the importance of quantifying both costs and benefits, reducing costs, harmonizing rules, and promoting flexibility. The Office of Information and Regulatory Affairs in the Office of Management and Budget determined this rule is not a significant regulatory action.

B. Regulatory Flexibility Act

As required by the Regulatory Flexibility Act of 1980 (5 U.S.C. 601 et seq.), AmeriCorps certifies that this rule, if adopted, will not have a significant economic impact on a substantial number of small entities. While many grantees are small governmental jurisdictions or not-for-profit enterprises that may qualify as small entities, the economic effect of this proposed rule on those small entities is minimal. Therefore, AmeriCorps has not performed the initial regulatory flexibility analysis that is required under the Regulatory Flexibility Act (5 U.S.C. 601 et seq.) for rules that are expected to have such results.

C. Unfunded Mandates Reform Act of 1995

For purposes of title II of the Unfunded Mandates Reform Act of 1995, 2 U.S.C. 1531-1538, as well as Executive Order 12875, this regulatory action does not contain any Federal mandate that may result in increased expenditures in Federal, State, local, or Tribal Governments in the aggregate, or impose an annual burden exceeding $100 million on the private sector.

D. Paperwork Reduction Act

Under the Paperwork Reduction Act, an agency may not conduct or sponsor a collection of information unless the collections of information display valid control numbers. This rule does not affect any information collections.

E. Federalism (E.O. 13132)

Executive Order 13132, Federalism, prohibits an agency from publishing any rule that has federalism implications if the rule imposes substantial direct compliance costs on state and local governments and is not required by statute, or the rule preempts state law, unless the agency meets the consultation and funding requirements of section 6 of the Executive order. This rulemaking does not have any federalism implications, as described above.

F. Takings (E.O. 12630)

This rule does not affect a taking of private property or otherwise have taking implications under Executive Order 12630 because this rule does not affect individual property rights protected by the Fifth Amendment or involve a compensable “taking.” A takings implication assessment is not required.

G. Civil Justice Reform (E.O. 12988)

This rule complies with the requirements of Executive Order 12988. Specifically, this rulemaking: (a) meets the criteria of section 3(a) requiring that all regulations be reviewed to eliminate errors and ambiguity and be written to minimize litigation; and (b) meets the criteria of section 3(b)(2) requiring that all regulations be written in clear language and contain clear legal standards.

H. Consultation With Indian Tribes (E.O. 13175)

AmeriCorps recognizes the inherent sovereignty of Indian Tribes and their right to self-governance. We have evaluated this rulemaking under the agency's consultation policy and the criteria in Executive Order 13175 and determined that this rule does not impose substantial direct effects on federally recognized Tribes.

List of Subjects in 45 CFR Parts 2551, 2552, and 2553

Aged, Grant programs—social programs, Volunteers.

For the reasons stated in the preamble, under the authority of 42 U.S.C. 12651c(c), the Corporation for National and Community Service amends chapter XXV, title 45 of the Code of Federal Regulations as follows:

PART 2551—SENIOR COMPANION PROGRAM

1. The authority citation for part 2551 continues to read as follows:

Authority: 42 U.S.C. 4950 et seq.; 42 U.S.C. 12651b-12651d; E.O. 13331, 69 FR 9911.

2. Revise and republish § 2551.12 to read as follows:

§ 2551.12 Definitions.

Act. The Domestic Volunteer Service Act of 1973, as amended, Public Law 93-113, Oct. 1, 1973, 87 Stat. 396, 42 U.S.C. 4950 et seq.

Adequate staffing level. The number of project staff or full-time equivalent needed by a sponsor to manage the AmeriCorps Seniors project operations considering such factors as: Number of budgeted Volunteer Service Years (VSYs), number of volunteer stations, and the size of the service area.

Adult with special needs. Any individual over 21 years of age who has one or more physical, emotional, or mental health limitations and is in need of assistance to achieve and maintain their highest level of independent living.

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Demonstration Programs, all of which are established under Parts A, B, C, and E, Title II of the Act

Annual income. The applicant or enrollee's total income for the preceding 12 months, including the applicant or enrollee's spouse's income, if the spouse lives in the same residence, as calculated in § 2551.44.

Chief Executive Officer. The Chief Executive Officer of AmeriCorps appointed under the National and Community Service Act of 1990, as amended, (NCSA), 42 U.S.C. 12501 et seq.

Cost reimbursements. Reimbursements budgeted as Volunteer Expenses and provided to volunteers, including stipends to cover incidental costs, transportation, meals, recognition, supplemental accident, personal liability and excess automobile liability insurance and other expenses as negotiated in the Memorandum of Understanding.

In-home. The non-institutional assignment of a Senior Companion in a private residence.

Letter of Agreement. A written agreement between a volunteer station or sponsor and the person(s) served or the person legally responsible for that person. It authorizes the assignment of an SCP volunteer in the home of a client, defines SCP volunteer activities, and specifies supervision arrangements.

Memorandum of Understanding. A written statement prepared and signed by the Senior Companion project sponsor and the volunteer station that identifies project requirements, working relationships, and mutual responsibilities.

Non-AmeriCorps support (excess). The amount of non-AmeriCorps cash and in-kind contributions generated by a sponsor in excess of the required percentage.

Non-AmeriCorps support (match). The percentage share of non-AmeriCorps cash and in-kind contributions required to be raised by the sponsor in support of the grant.

Performance measures. Indicators that help determine the impact of an SCP project on the community and clients served, including the volunteers.

Project. The locally planned SCP activity or set of activities in a service area as approved by AmeriCorps and implemented by the sponsor.

Proprietary Health Care Agency. Private, for-profit health care organization that serves one or more vulnerable populations.

Service area. The geographically defined area(s) in which Senior Companions are enrolled and placed on assignments.

Service schedule. A written delineation of the days and times a Senior Companion serves each week.

Sponsor. A public agency, including Indian Tribes as defined in section 421(5) of the Act, and private, non-profit organizations, both secular and faith-based, in the United States that have authority to accept and the capability to administer a Senior Companion project.

Stipend. A payment to Senior Companions to enable them to serve without cost to themselves. The amount of the stipend is set by AmeriCorps in accordance with Federal law.

United States and territories. Each of the several States, the District of Columbia, the U.S. Virgin Islands, the Commonwealth of Puerto Rico, Guam and American Samoa, the Commonwealth of the Northern Mariana Islands, and the Trust Territories of the Pacific Islands.

Volunteer assignment plan. A written description of a Senior Companion's assignment with a client. The plan identifies specific outcomes for the client and the activities of the Senior Companion.

Volunteer station. A public agency; a private, non-profit organization, secular or faith-based; or a proprietary health care organization. A volunteer station must accept responsibility for the assignment and supervision of Senior Companions in health, education, social service, or related settings such as multi-purpose centers, home health care agencies, or similar establishments. Each volunteer station must be licensed or otherwise certified, when required, by the appropriate state or local government. Private homes are not volunteer stations.

3. In § 2551.23, redesignate paragraphs (i)(2) through (5) as paragraphs (i)(3) through (6) and add new paragraph (i)(2) to read as follows:

§ 2551.23 What are a sponsor's project responsibilities?

* * * * *

(i) * * *

(2) Administrative leave, meaning a temporary absence the sponsor allows in extenuating circumstances that prevent the Senior Companion from serving or serving safely.

* * * * *

4. In § 2551.25, revise paragraph (h) to read as follows:

§ 2551.25 What are a sponsor's administrative responsibilities?

* * * * *

(h) Comply with, and ensure that Memorandums of Understanding require all volunteer stations to comply with, all applicable civil rights laws and regulations, including non-discrimination based on disability.

5. Revise the heading for subpart C to read as follows:

Subpart C—Suspension and Termination of AmeriCorps Assistance

6. In § 2551.43, revise paragraph (b) to read as follows:

§ 2551.43 What income guidelines govern eligibility to serve as a stipended Senior Companion?

* * * * *

(b) For applicants to become stipended Senior Companions, income is based on annual income at the time of application. For serving stipended Senior Companions, annual income is counted for the past 12 months. Annual income includes the applicant or enrollee's income and that of his/her spouse, if the spouse lives in the same residence, as calculated in § 2551.44.

* * * * *

7. In § 2551.44, revise paragraph (a)(3) to read as follows:

§ 2551.44 What is considered income for determining volunteer eligibility?

(a) * * *

(3) Social Security, Unemployment or Workers Compensation, alimony, and military family allotments, or other legally required financial support from an absent family member or someone not living in the household.

* * * * *

8. In § 2551.46, revise paragraph (a) to read as follows:

§ 2551.46 What cost reimbursements are provided to Senior Companions?

* * * * *

(a) Stipend. The stipend is paid for the time Senior Companions spend with their assigned clients, for earned leave, for administrative leave, and for attendance at official project events. The sponsor may pay a stipend for administrative leave for extenuating circumstances lasting up to seven calendar days, but must obtain AmeriCorps' written approval to pay a stipend for administrative leave based on extenuating circumstances lasting beyond seven calendar days.

* * * * *

§ 2551.91 [Amended]

9. In § 2551.91, remove “CNCS' ” and add in its place “AmeriCorps' ” wherever it appears.

10. In § 2551.92, revise paragraph (e) to read as follows:

§ 2551.92 What are project funding requirements?

* * * * *

(e) May a sponsor pay stipends at rates different than those established by AmeriCorps? A sponsor must pay stipends at rates no less than the rate established by AmeriCorps. A sponsor may use non-AmeriCorps funding to pay stipends at rates higher than the rate established by AmeriCorps but may not use AmeriCorps funding for this purpose.

11. Revise the heading of subpart K to read as follows:

Subpart K—Non-AmeriCorps Funded Senior Companion Projects

§ 2551.114 [Amended]

12. In § 2551.114, remove “non-CNCS” and add in its place “non-AmeriCorps” and remove “CNCS' ” and add in its place “AmeriCorps' ”.

13. In § 2551.121, revise paragraph (c)(1) to read as follows:

§ 2551.121 What legal limitations apply to the operation of the Senior Companion Program and to the expenditure of grant funds?

* * * * *

(c) * * *

(1) An agency or organization to which AmeriCorps Seniors volunteers are assigned or which operates or supervises any AmeriCorps Seniors program shall not request or receive any compensation from AmeriCorps Seniors volunteers, or from beneficiaries, for the services provided by AmeriCorps Seniors volunteers.

* * * * *

§ 2551.122 [Amended]

14. In § 2551.122, remove “CNCS's” and add in its place “AmeriCorps' “.

§§ 2551.21 through 2551.122 [Amended]

15. In addition to the amendments set forth above, in §§ 2551.21 through 2551.122, remove “CNCS” and add in its place the word “AmeriCorps”.

§§ 2551.92, 2551.102, 2551.112, and 2551.113 [Amended]

16. In addition to the amendments set forth above, in §§ 2551.92, 2551.102, 2551.112, and 2551.113, remove “non-CNCS” and add in its place the word “non-AmeriCorps”.

PART 2552—FOSTER GRANDPARENT PROGRAM

17. The authority for part 2552 continues to read as follows:

Authority: 42 U.S.C. 4950 et seq.; 42 U.S.C. 12651b-12651d; E.O. 13331, 69 FR 9911.

18. Revise and republish § 2552.12 to read as follows:

§ 2552.12 Definitions.

Act. The Domestic Volunteer Service Act of 1973, as amended, Public Law 93-113, Oct. 1, 1973, 87 Stat. 396, 42 U.S.C. 4950 et seq.

Adequate staffing level. The number of project staff or full-time equivalent needed by a sponsor to manage the AmeriCorps Seniors project operations considering such factors as: Number of budgeted Volunteer Service Years (VSYs), number of volunteer stations, and the size of the service area.

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Demonstration Programs, all of which are established under Parts A, B, C, and E, Title II of the Act.

Annual income. The applicant's or enrollee's total income, as calculated in § 2552.44, over the preceding 12 months.

Chief Executive Officer. The Chief Executive Officer of AmeriCorps appointed under the National and Community Service Act of 1990, as amended, (NCSA), 42 U.S.C. 12501 et seq.

Child. Any individual who is less than 21 years of age.

Children having exceptional needs. Children who have a developmental disability, such as those who have autism; an intellectual disability; cerebral palsy or epilepsy; a visual, speech, hearing, or orthopedic impairment; an emotional, behavioral, or language disorder; a specific learning disability; multiple disabilities; other significant health impairments; or have literacy, math or other educational assistance needs. Before a Foster Grandparent is assigned to a child, existence of the child's exceptional need shall be verified by an appropriate professional, such as a physician; psychiatrist; psychologist, including school psychologists; registered nurse or licensed practical nurse; speech therapist; licensed clinical social worker; or educator.

Children with special needs. Children who are abused or neglected, in need of foster care, adjudicated youth, homeless youth, teenage parents, and children in need of protective intervention in their homes. Existence of a child's special need shall be verified by an appropriate professional before a Foster Grandparent is assigned to the child.

Cost reimbursements. Reimbursements budgeted as Volunteer Expenses and provided to volunteers, including stipends to cover incidental costs; transportation; meals; recognition; supplemental accident, personal liability and excess automobile liability insurance; and other expenses as negotiated in the Memorandum of Understanding.

In-home. The non-institutional assignment of a Foster Grandparent in a private residence or a foster home.

Letter of Agreement. A written agreement between a volunteer station or sponsor and the person(s) served or the person legally responsible for that person. It authorizes the assignment of an FGP volunteer in the home of a client, defines FGP volunteer activities, and specifies supervision arrangements.

Memorandum of Understanding. A written statement prepared and signed by the Foster Grandparent project sponsor and the volunteer station that identifies project requirements, working relationships, and mutual responsibilities.

Non-AmeriCorps support (excess). The amount of non-Federal cash and in-kind contributions generated by a sponsor in excess of the required percentage.

Non-AmeriCorps support (match). The percentage share of non-AmeriCorps cash and in-kind contributions required to be raised by the sponsor in support of the grant.

Non-AmeriCorps support (excess). The amount of non-Federal cash and in-kind contributions generated by a sponsor in excess of the required percentage.

Parent. A natural parent or a person acting in place of a natural parent, such as a guardian, a child's natural grandparent, or a step-parent with whom the child lives. The term also includes otherwise-unrelated individuals who are legally responsible for a child's welfare.

Performance measures. Indicators that help determine the impact of an FGP project on the community and clients served, including the volunteers.

Project. The locally planned FGP activity or set of activities in a service area as approved by AmeriCorps and implemented by the sponsor.

Proprietary Health Care Agency. Private, for-profit health care organization that serves one or more vulnerable populations.

Service area. The geographically defined area(s) in which Foster Grandparents are enrolled and placed on assignments.

Service schedule. A written delineation of the days and times a Foster Grandparent serves each week.

Sponsor. A public agency, including Indian Tribes as defined in section 421(5) of the Act, and private, non-profit organizations, both secular and faith-based, in the United States that have authority to accept and the capability to administer a Foster Grandparent project.

Stipend. A payment to Foster Grandparents to enable them to serve without cost to themselves. The amount of the stipend is set by AmeriCorps in accordance with Federal law.

United States and Territories. Each of the several States, the District of Columbia, the U.S. Virgin Islands, the Commonwealth of Puerto Rico, Guam and American Samoa, the Commonwealth of the Northern Mariana Islands, and the Trust Territories of the Pacific Islands.

Volunteer assignment plan. A written description of a Foster Grandparent's assignment with a child. The plan identifies specific outcomes for the child and the activities of the Foster Grandparent.

Volunteer station. A public agency; a private, non-profit organization, secular or faith-based; or a proprietary health care organization. A volunteer station must accept responsibility for the assignment and supervision of Foster Grandparents in health, education, social service, or related settings such as multi-purpose centers, home health care agencies, or similar establishments. Each volunteer station must be licensed or otherwise certified, when required, by the appropriate state or local government. Private homes are not volunteer stations.

19. In § 2552.23, redesignate paragraphs (i)(2) through (5) as paragraphs (i)(3) through (6) and add new paragraph (i)(2) to read as follows:

§ 2552.23 What are a sponsor's project responsibilities?

* * * * *

(i) * * *

(2) Administrative leave, meaning a temporary absence the sponsor allows in extenuating circumstances that prevent the Foster Grandparent from serving or serving safely.

* * * * *

20. In § 2552.25, revise paragraph (h) to read as follows:

§ 2552.25 What are a sponsor's administrative responsibilities?

* * * * *

(h) Comply with, and ensure that Memorandums of Understanding require all volunteer stations to comply with, all applicable civil rights laws and regulations, including non-discrimination based on disability.

21. Revise the heading for subpart C to read as follows:

Subpart C—Suspension and Termination of AmeriCorps Assistance

§ 2552.43 [Amended]

22. In § 2552.43, revise paragraph (b) to read as follows:

§ 2552.43 What income guidelines govern eligibility to serve as a stipended Foster Grandparent?

* * * * *

(b) For applicants to become stipended Foster Grandparents, income is based on annual income at the time of application. For serving stipended Foster Grandparents, annual income is counted for the past 12 months. Annual income includes the applicant or enrollee's income and that of his/her spouse, if the spouse lives in the same residence, as calculated in § 2552.44.

* * * * *

23. In § 2552.44, revise paragraph (a)(3) to read as follows:

§ 2552.44 What is considered income for determining volunteer eligibility?

(a) * * *

(3) Social Security, Unemployment or Workers Compensation, alimony, and military family allotments, or other legally required financial support from an absent family member or someone not living in the household.

* * * * *

24. In § 2552.46, revise paragraph (a) to read as follows:

§ 2552.46 What cost reimbursements and benefits do sponsors provide to Foster Grandparents?

* * * * *

(a) Stipend. The stipend is paid for the time Foster Grandparents spend with their assigned children, for earned leave, for administrative leave, and for attendance at official project events. The sponsor may pay a stipend for administrative leave for extenuating circumstances lasting up to seven calendar days but must obtain AmeriCorps' written approval to pay a stipend for administrative leave based on extenuating circumstances lasting beyond seven calendar days.

* * * * *

25. In § 2552.92, revise paragraph (e) to read as follows:

§ 2552.92 What are project funding requirements?

* * * * *

(e) May a sponsor pay stipends at rates different than those established by AmeriCorps? A sponsor must pay stipends at rates no less than the rate established by AmeriCorps. A sponsor may use non-AmeriCorps funding to pay stipends at rates higher than the rate established by AmeriCorps, but may not use AmeriCorps funding for this purpose.

26. Revise the heading of subpart K to read as follows:

Subpart K—Non-AmeriCorps Funded Foster Grandparent Projects

§ 2552.112 [Amended]

27. In addition § 2552.112 introductory text, remove “Non-CNCS” and add in its place “non-AmeriCorps”.

28. In § 2552.121, revise paragraph (c)(1) to read as follows:

§ 2552.121 What legal limitations apply to the operation of the Foster Grandparent Program and to the expenditure of grant funds?

* * * * *

(c) * * *

(1) An agency or organization to which AmeriCorps Seniors volunteers are assigned or which operates or supervises any AmeriCorps Seniors program shall not request or receive any compensation from AmeriCorps Seniors volunteers, or from beneficiaries, for the services provided by AmeriCorps Seniors volunteers.

* * * * *

§§ 2552.21 through 2552.122 [Amended]

29. In addition to the amendments set forth above, in §§ 2552.21 through 2552.122, remove “CNCS” and add in its place the word “AmeriCorps” wherever it appears.

§§ 2552.91, 2552.114, and 2552.122 [Amended]

30. In addition to the amendments set forth above, in §§ 2552.91, 2552.114, and 2552.122, remove “CNCS' ” and add in its place “AmeriCorps' ”wherever it appears.

§§ 2552.92, 2552.102, 2552.112, 2552.113, and 2552.114 [Amended]

31. In addition to the amendments set forth above, in §§ 2552.92, 2552.102, 2552.112, 2552.113, and 2552.114, remove “non-CNCS” and add in its place “non-AmeriCorps” wherever it appears.

PART 2553—THE RETIRED AND SENIOR VOLUNTEER PROGRAM

32. The authority for part 2553 continues to read as follows:

Authority: 42 U.S.C. 4950 et seq.

33. Revise and republish § 2553.12 to read as follows:

§ 2553.12 Definitions.

Act. The Domestic Volunteer Service Act of 1973, as amended, Public Law 93-113, Oct. 1, 1973, 87 Stat. 396, 42 U.S.C. 4950 et seq.

Adequate staffing level. The number of project staff or full-time equivalent needed by a sponsor to manage the AmeriCorps Seniors project operations considering such factors as: Number of budgeted volunteers, number of volunteer stations, and the size of the service area.

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Demonstration Programs, all of which are established under Parts A, B, C, and E, Title II of the Act.

Assignment. The activities, functions, or responsibilities to be performed by volunteers identified in a written outline or description.

Assignment description. The written description of the activities, functions, or responsibilities to be performed by RSVP volunteers.

Chief Executive Officer. The Chief Executive Officer of AmeriCorps appointed under the National and Community Service Act of 1990, as amended, (NCSA), 42 U.S.C. 12501 et seq.

Cost reimbursements. Reimbursements budgeted as Volunteer Expenses and provided to volunteers, including stipends to cover incidental costs, transportation, meals, recognition, supplemental accident, personal liability and excess automobile liability insurance, and other expenses as negotiated in the Memorandum of Understanding.

Letter of Agreement. A written agreement between a volunteer station or sponsor and the person(s) served or the person legally responsible for that person. It authorizes the assignment of an RSVP volunteer in the home of a client, defines RSVP volunteer activities, and specifies supervision arrangements.

Memorandum of Understanding. A written statement prepared and signed by the RSVP project sponsor and the volunteer station that identifies project requirements, working relationships, and mutual responsibilities.

Non-AmeriCorps support (excess). The amount of non-AmeriCorps cash and in-kind contributions generated by a sponsor in excess of the required percentage.

Non-AmeriCorps support (match). The percentage share of non-AmeriCorps cash and in-kind contributions required to be raised by the sponsor in support of the grant.

Performance measures. Indicators that help determine the impact of an RSVP project on the community, including the volunteers.

Project. The locally planned RSVP activity or set of activities in a service area as approved by AmeriCorps and implemented by the sponsor.

Proprietary Health Care Agency. Private, for-profit health care organization that serves one or more vulnerable populations.

Service area. The geographically defined area(s) approved in the grant application, in which RSVP volunteers are enrolled and placed on assignments.

Sponsor. A public agency, including Indian Tribes as defined in section 421(5) of the Act, and private, non-profit organizations, both secular and faith-based, in the United States that have authority to accept and the capability to administer an RSVP project.

United States and Territories. Each of the several States, the District of Columbia, the U.S. Virgin Islands, the Commonwealth of Puerto Rico, Guam and American Samoa, the Commonwealth of the Northern Mariana Islands, and the Trust Territories of the Pacific Islands.

Volunteer station. A public agency; a private, non-profit organization, secular or faith-based; or a proprietary health care organization. A volunteer station must accept responsibility for the assignment and supervision of RSVP volunteers in health, education, social service, or related settings such as multi-purpose centers, home health care agencies, or similar establishments. Each volunteer station must be licensed or otherwise certified, when required, by the appropriate state or local government. Private homes are not volunteer stations.

34. In § 2553.25, revise paragraph (h) to read as follows:

§ 2553.25 What are a sponsor's administrative responsibilities?

* * * * *

(h) Comply with, and ensure that Memorandums of Understanding require all volunteer stations to comply with, all applicable civil rights laws and regulations, including non-discrimination based on disability.

* * * * *

§ 2553.43 [Amended]

35. In § 2553.43, in paragraph (b)(2) introductory text, remove “CNCS-specified” and add in its place “AmeriCorps-specified”.

§ 2553.71 [Amended]

36. In § 2553.71, in the paragraph (b) heading, remove the words “the Corporation” and add in their place the word “AmeriCorps”.

37. In § 2553.72, revise the paragraph (a) heading and paragraphs (a)(1) and (c) to read as follows:

§ 2553.72 What are project funding requirements?

(a) Is non-AmeriCorps support required? (1) An AmeriCorps grant may be awarded to fund up to 90 percent of the total project cost.

* * * * *

(c) May AmeriCorps restrict how a sponsor uses locally generated contributions in excess of the non-AmeriCorps support required? Whenever locally generated contributions to RSVP projects are in excess of the non-AmeriCorps funds required (10 percent of the total cost), AmeriCorps may not restrict the manner in which such contributions are expended, provided such expenditures are consistent with the provisions of the Act.

* * * * *

38. Revise the heading to subpart H to read as follows:

Subpart H—Non-AmeriCorps Funded Projects

39. In § 2553.91, revise paragraph (c)(1) to read as follows:

§ 2553.91 What legal limitations apply to the operation of the RSVP volunteer program and to the expenditure of grant funds?

* * * * *

(c) * * *

(1) An agency or organization to which AmeriCorps Seniors volunteers are assigned or which operates or supervises any AmeriCorps Seniors program shall not request or receive any compensation from AmeriCorps Seniors volunteers or from beneficiaries for services of AmeriCorps Seniors volunteers.

* * * * *

§§ 2553.21 through 2553.108 [Amended]

40. In addition to the amendments set forth above, in §§ 2553.21 through 2553.108, remove “CNCS” and add in its place the word “AmeriCorps” wherever it appears.

§§ 2553.71, 2553.84, and 2553.92 [Amended]

41. In addition to the amendments set forth above, in §§ 2553.71, 2553.84, and 2553.92, remove “CNCS' ” and add in its place the word “AmeriCorps' ” wherever it appears.

§§ 2553.72, 2553.82, 2553.83, and 2553.84 [Amended]

42. In addition to the amendments set forth above, in §§ 2553.72, 2553.82, 2553.83, and 2553.84, remove “non-CNCS” and add in its place “non-AmeriCorps” wherever it appears.

Andrea Grill,
Acting General Counsel.

[FR Doc. 2024-19348 Filed 8-29-24; 8:45 am]

BILLING CODE 6050-28-P